DEPARTMENT OF TRANSPORTATION

Office of the Secretary

Aviation Proceedings, Agreements Filed the Week Ending May 28, 2004

The following Agreements were filed with the Department of Transportation under the provisions of 49 U.S.C. 412 and 414. Answers may be filed within 21 days after the filing of the application.

Docket Number: OST-2004-17959.

Date Filed: May 25, 2004.

Parties: Members of the International Air Transport Association.

Subject: CTC COMP 0480 dated 28 May 2004, Expedited Composite Cargo Resolutions r1-r6, Intended effective date: 1 July 2004.

Docket Number: OST-2004-17961.

Date Filed: May 25, 2004.

Parties: Members of the International Air Transport Association.

Subject: CTC COMP 0481 dated 28 May 2004, Expedited Composite Resolution 033e r1, Intended effective date: 1 July 2004.

Docket Number: OST-2004-17964.

Date Filed: May 25, 2004.

Parties: Members of the International Air Transport Association.

Subject: CTC COMP 0482 dated 28 May 2004, Expedited Worldwide Area Resolution 002m (changes to rates) except to/from USA/US Territories r1-r2, Intended effective date: 1 July 2004.

Docket Number: OST-2004-17968.

Date Filed: May 25, 2004.

Parties: Members of the International Air Transport Association.

Subject: PTC31 SOUTH 0159 dated 25 May 2004, TC31 South Pacific except between French Polynesia, New Caledonia, New Zealand and USA, PTC31 SOUTH 0160 dated 25 May 2004, TC31 South Pacific between French Polynesia, New Caledonia, New Zealand and USA r1-r36, Intended effective date: 1 July 2004.

Maria Gulczewski,
Alternate Federal Register Liaison.

[FR Doc. 04-13051 Filed 6-8-04; 8:45 am]

BILLING CODE 4910-62-P